FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
692F | A.R. Savage & Son, Inc., 1803 Eastport Drive, Tampa, FL 33605 | May 4, 2001.
4088F | Able Freight Services, Inc., 801 W. Hyde Park Blvd., Inglewood, CA 90302 | May 10, 2001.
10873N | Ameripack Services, Inc., 7301 NW 41st Street, Miami, FL 33166 | April 22, 2001.
4268F | J & S Universal Services, Inc., dba Patrick & Rosenfeld Shipping Corp., 4453 NW 97th Avenue, Miami, FL 33178 | March 22, 2001.
3964F | Logistic Excel Corporation, 1521 West Magnolia, Suite B, Burbank, CA 91506 | April 27, 2001.
2468F | USA Cargo Services Co., 1343 Terrell Mill Road, Suite 200, Marietta, GA 30067-9472 | June 22, 2001.

Sandra L. Kusumoto,
Director, Bureau of Consumer Complaints and Licensing.

[FR Doc. 01-17992 Filed 7-18-01; 8:45 am]

BILLING CODE 6730-01-P